DEPARTMENT OF STATE

[Public Notice: 12405]

Notice of Public Meeting in Preparation for International Maritime Organization NCSR 11th Meeting

The Department of State will conduct a public meeting at 11:00 a.m. on Wednesday, May 29, 2024, both in-person at Coast Guard Headquarters in Washington, DC, and via teleconference. The primary purpose of the meeting is to prepare for the 11th session of the International Maritime Organization's (IMO) Sub-Committee on Navigation, Communication and Search and Rescue (NCSR 11) to be held in London, United Kingdom from Tuesday, June 4, 2024 to Thursday, June 13, 2024.

Members of the public may participate up to the capacity of the teleconference line, which will handle 500 participants, or up to the seating capacity of the room if attending in-person. The meeting location will be the United States Coast Guard Headquarters, and the teleconference line will be provided to those who RSVP. To RSVP, participants should contact the meeting coordinator, Mr. John Stone, by email at John.M.Stone@uscg.mil. Mr. Stone will provide access information for in-person and virtual attendance.

The agenda items to be considered include:

—Adoption of the agenda

—Decisions of other IMO bodies

—Routing measures and mandatory ship reporting systems

—Updates to the LRIT system

—Developments in GMDSS services, including guidelines on maritime safety information (MSI)

—Response to matters related to the ITU-R Study Groups and ITU World Radiocommunication Conference

—Development of global maritime SAR services, including harmonization of maritime and aeronautical procedures and amendments to the IAMSAR Manual

—Development of performance standards for a digital navigational data system (NAVDAT)

—Development of amendments to SOLAS chapters IV and V and performance standards and guidelines to introduce VHF Data Exchange System (VDES)

—Review of the appropriateness and effectiveness of SOLAS regulation IV/5 (Provision of radiocommunication services)

—Revision of the Criteria for the provision of mobile satellite communication services in the Global Maritime Distress and Safety System (GMDSS) (Resolution A. 1001(25))

—Development of guidelines for the use of electronic nautical publications (ENP)

—Revision of SOLAS regulation V/23 and associated instruments to improve the safety of pilot transfer arrangements

—Identification of measures to improve the security and integrity aspects of AIS

—Unified interpretation of provision of IMO safety, security, environment, facilitation, liability and compensation-related conventions.

—Biennial status report and provisional agenda for NCSR 12

—Election of Chair and Vice-Chair for 2025

—Any other business

—Report to the Maritime Safety Committee

Please note: The IMO may, on short notice, adjust the NCSR 11 agenda to accommodate any constraints associated with the meeting. Although no changes to the agenda are anticipated, if any are necessary, they will be provided to those who RSVP.

Those who plan to participate should contact the meeting coordinator, Mr. John Stone at John.M.Stone@uscg.mil, by phone at (206) 815-1335, or in writing at 2703 Martin Luther King Jr. Ave. SE, Stop 7418, Washington, DC 20593-7418 not later than May 15, 2024, 14 days prior to the meeting. Requests made after May 15, 2024 might not be able to be accommodated. The meeting coordinator will provide the teleconference information, facilitate the building security process, and requests for reasonable accommodation. Please note that due to security considerations, two valid, government issued photo identifications must be presented to gain entrance to the Douglas A. Munro Coast Guard Headquarters Building at St. Elizabeth's. This building is accessible by taxi, public transportation, and privately owned conveyance (upon advanced request).

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2024-10183 Filed 5-9-24; 8:45 am]

BILLING CODE 4710-09-P